DEPARTMENT OF JUSTICE

Notice of Lodging of Consent Decree Under the Comprehensive Environmental Response, Compensation, and Liability Act of 1980

Notice is hereby given that on October 18, 2005, a proposed Consent Decree in United States v. Chemical Waste Management, Inc., an action under section 107 of the Comprehensive Environmental Response, Compensation, and Liability Act of 1980 (“CERCLA”), amended, 42 U.S.C. 9607, was lodged with the United States District Court for the District of Colorado, Case No. 05-CV-02053 ZLW-MJW (D. Colo.).

In this action, the United States sought the recovery of past response costs incurred by the United States in connection with removal actions implemented in 1999 by the Environmental Protection Agency at the Weld County Waste Disposal Site (“Site”), Weld County, Colorado. In its complaint, the United States alleged that Chemical Waste Management, Inc., by virtue of its status as a successor to the liabilities of Waste Transport, Inc., is liable under section 107(a)(4) of CERCLA, 42 U.S.C. 9607(a)(4), as a person “who * * * accepted any hazardous substances for transport to disposal * * * facilities * * * selected by such person, from which there is a release, or a threatened release which causes the incurrence of response costs.”

The settlement between the United States and Chemical Waste Management, Inc. provides for the recovery of $1,025,442 in past costs incurred by EPA in connection with removal actions implemented in 1999 at the Site and reserves any claims that the United States may have against Chemical Waste Management, Inc., for, among other things, future response costs and natural resource damages.

The Department of Justice will receive for a period of thirty (30) days from the date of this publication comments relating to the Consent Decree. Comments should be addressed to the Assistant Attorney General, Environment and Natural Resources Division, U.S. Department of Justice, PO Box 7611, Washington, DC 20044-7611, and should refer to United States v. Chemical Waste Management, Inc., DJ# 90-7-1-831/2.

The Consent Decree may be examined at U.S. EPA Region 8, 999 18th Street, Suite 500, Denver, Colorado, 80202. During the public comment period, the Consent Decree, may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, Please enclose a check in the amount of $3.00 for the Decree payable to the United States Treasury.

Robert D. Brook,
Assistant Chief, Environmental Enforcement Section, Environment and Natural Resources Division.

[FR Doc. 05-21884 Filed 11-1-05; 8:45 am]

BILLING CODE 4410-15-M